Title 3—

The President

Proclamation 7284 of March 31, 2000

Cancer Control Month, 2000

By the President of the United States of America

A Proclamation

Since the discovery of the DNA double helix in 1953, we have learned much about the relationship between genetics and cancer, and researchers have begun to isolate and study genes whose alteration and dysfunction may cause the disease. In the last decade, increased understanding of cancer and growing public awareness of its symptoms and risks have helped us to reverse the upward trend in cancer rates in our Nation. Cancer cases and death rates have declined slightly but steadily in the United States; the 5-year survival rate has improved for all cancers; and 8.4 million Americans are now cancer survivors.

Despite these encouraging trends, this is no time for complacency. Last year alone, more than 1 million people were diagnosed with cancer, and more than 560,000 died from it. And cancer rates are still disproportionately high among certain racial, ethnic, and socioeconomic groups. That is why my Administration remains committed to fighting this deadly disease in every sector of our population. Since 1998, we have boosted investment in biomedical research at the National Institutes of Health by an unprecedented $4.1 billion, including a dramatic increase in funding for the National Cancer Institute (NCI), the primary Federal cancer research agency.

Early detection and preventative treatment remain the best weapons we have in the battle against this disease, and several promising initiatives at the NCI will improve our effectiveness in both areas. The NCI recently issued a “Director's Challenge” to spur research nationwide into defining key genetic changes that mark tumors as malignant or precancerous. This information will improve the way tumors are classified and lay the ground work for more precise molecular diagnosis. The NCI is also developing and testing molecular markers specific to certain cancers, as well as working on new technologies to improve detection. This research will help doctors to intervene early, with minimally invasive procedures, to prevent the disease from becoming full-blown.

Another powerful weapon in our crusade is information. Better understanding of risk factors can help people make smarter choices—like quitting smoking or undergoing needed cancer screening. The Cancer Information Service (CIS), a free education service provided by the NCI, acts as the public's link to clear and understandable cancer information. I encourage Americans seeking information on the latest cancer research and treatments to call CIS at 1-800-4-CANCER or to access the NCI directly on the Internet at http://www.cancer.gov.

Finally, as we intensify our efforts to fight cancer, we must ensure that no American is left behind. The NCI is working to implement cancer control and prevention programs in minority and underserved communities, as well as to increase minority participation in clinical trials and research. As a result of these efforts, nearly 20 percent of the more than 20,000 patients now entering clinical treatment trials are from an ethnic minority group.

Investment in science and technology produced tremendous progress in health care during the last century. In this new century, we must reaffirm our dedication to the research, information sharing, and access to care that will help us ultimately win the fight against cancer.

In 1938, the Congress of the United States passed a joint resolution (52 Stat. 148; 36 U.S.C. 103) requesting the President to issue an annual proclamation declaring April as “Cancer Control Month.”

NOW, THEREFORE, I, WILLIAM J. CLINTON, President of the United States of America, do hereby proclaim April 2000 as Cancer Control Month. I invite the Governors of the 50 States and the Commonwealth of Puerto Rico, the Mayor of the District of Columbia, and the appropriate officials of all other areas under the American flag to issue similar proclamations. I also call upon health care professionals, private industry, community groups, insurance and managed care companies, and all other interested organizations and individuals to unite in support of our Nation's determined efforts to control cancer.

IN WITNESS WHEREOF, I have hereunto set my hand this thirty-first day of March, in the year of our Lord two thousand, and of the Independence of the United States of America the two hundred and twenty-fourth.

wj

[FR Doc. 00-8569

Filed 4-4-00; 8:45 am]

Billing code 3195-01-P